DEPARTMENT OF TRANSPORTATION

Federal Aviation Administration

Notice of Opportunity for Public Comment on Surplus Property Release at Anderson Regional Airport, Anderson, South Carolina

AGENCY: Federal Aviation Administration (FAA), DOT.

ACTION: Notice.

SUMMARY: Under the provisions of Title 49, U.S.C. 47153(c), notice is being given that the FAA is considering a request from Anderson County, South Carolina to waive the requirement that seven parcels of surplus property, located at the Anderson Regional Airport, be used for aeronautical purposes. The total land area is approximately 5.3 acres.

DATES: Comments must be received on or before July 5, 2001.

ADDRESSES: Comments on this notice may be mailed or delivered in triplicate to the FAA at the following address: Atlanta Airports District Office, 1701 Columbia Avenue, Campus Building, Suite 2-260, College Park, GA 30337.

In addition, one copy of any comments submitted to the FAA must be mailed or delivered to Mr. Joey Preston, County Administrator of Anderson County, South Carolina at the following address; 101 South Main Street, Anderson, SC 29622.

FOR FURTHER INFORMATION CONTACT: Laura A. Breeding, Program Manager, Atlanta Airports District Office, 1701 Columbia Avenue, Campus Building, Suite 2-260, College Park, GA 30337, (404) 305-7149. The application may be reviewed in person at this same location.

SUPPLEMENTARY INFORMATION: The FAA is reviewing a request by Anderson County to release 5.3 acres of surplus property at the Anderson Regional Airport. Approximately 2.5 acres of the property will be purchased by the South Carolina Department of Transportation and used for the widening of South Carolina Route 24 from a two-lane section to a four-lane section with center left turn lane. The net proceeds from the sale of this property will be used for airport purposes. Approximately 2.8 acres of land will be released to Anderson County for the completion of their Warner Road Relocation project with an expansion to the northeast. There will be no exchange of funds for this parcel.

Any person may inspect the request in person at the FAA office listed above under “FOR FURTHER INFORMATION CONTACT.” In addition, any person may, upon request, inspect the request, notice and other documents germane to the request in person at Anderson County Administrator's office.

Issued in Atlanta, Georgia on May 29, 2001.
Scott L. Seritt,
Manager, Atlanta Airports District Office, Southern Region.

[FR Doc. 01-13959 Filed 6-1-01; 8:45 am]

BILLING CODE 4910-13-M